DEPARTMENT OF THE INTERIOR

National Park Service

[NPS-WASO- NPS0038238; 24XP103905—PPWONRADE2—PMP00EI05.YP0000]

Finding of No Significant Impact for the Use of Electric Bicycles in the National Park System Programmatic Environmental Assessment

AGENCY: National Park Service, Interior.

ACTION: Notice of availability.

SUMMARY: The National Park Service (NPS) announces the availability of the Finding of No Significant Impact (FONSI) for a programmatic environmental assessment (PEA) that evaluates, on a nationwide scale, use of electric bicycles (e-bikes) within National Park System units.

FOR FURTHER INFORMATION CONTACT: Jay Calhoun, Chief, Division of Regulations, Jurisdiction, and Special Park Uses, National Park Service; waso_regulations@nps.gov; (202) 281-0734.

SUPPLEMENTARY INFORMATION: On December 2, 2020, the NPS promulgated a final rule (rule) governing use of e-bikes within the National Park System (85 FR 69175). On May 24, 2022, the U.S. District Court for the District of Columbia issued an opinion finding that the NPS had improperly relied upon a categorial exclusion to comply with the National Environmental Policy Act (NEPA) for the rule. The Court remanded the rule to the NPS and directed the NPS to conduct additional NEPA analysis for the rule. Pub Emps. For Env't Responsibility v. Nat'l Park Serv., 605 F. Supp. 3d 28 (D.D.C. 2022). The rule remained in place pending the outcome of the required NEPA analysis. The PEA was prepared consistent with the Court's May 24, 2022 opinion.

The PEA evaluates the environmental impacts, on a nationwide scale, of a no-action alternative and the proposed action (the rule). The no-action alternative assumes that the rule has not been promulgated and that there is no nationwide policy about the use of e-bikes. Under the no-action alternative, superintendents would have no specific authority to allow e-bike use in System units and no policy direction about how to use existing authorities to manage e-bikes. This would result in inconsistent management of e-bikes use across the National Park System. In most System units, visitors would likely be allowed to use e-bikes on public roads and parking lots where motor vehicle use is allowed. In some System units, e-bike use also could occur on administrative roads and trails. Under the proposed action (the rule), e-bikes are defined uniformly and subject to a standard set of operating requirements, while superintendents have the discretion to allow e-bike use in National Park System units on a case-by-case basis, on public roads, parking lots, administrative roads, and trails where traditional bicycle use is allowed. The proposed action has been identified as the NPS preferred alternative. The PEA analyzes impacts to soils, vegetation, visitor use and experience, and wildlife.

The NPS has selected the proposed action (the rule) for implementation. Based on the analysis in the PEA and the discussion in the FONSI, the NPS has determined that implementation of the selected alternative will not result in significant impacts to the quality of the human environment. Therefore, an EIS will not be prepared. The FONSI is available online at: https://parkplanning.nps.gov/e-bikes.

Raymond M. Sauvajot,
Associate Director, Natural Resource Stewardship and Science.

[FR Doc. 2024-18426 Filed 8-23-24; 8:45 am]

BILLING CODE 4312-52-P